DEPARTMENT OF COMMERCE

International Trade Administration

[A-331-802, A-533-840, A-570-893, A-549-822]

Certain Frozen Warmwater Shrimp from Ecuador, India, the People's Republic of China, and Thailand: Notice of Extension of Time Limits for the Preliminary Results of the Third Administrative Reviews

AGENCY: Import Administration, International Trade Administration, Department of Commerce.

EFFECTIVE DATE: October 8, 2008.

FOR FURTHER INFORMATION CONTACT: David Goldberger (Ecuador) at (202) 482-4136, Elizabeth Eastwood (India) at (202) 482-3874, Erin Begnal (People's Republic of China) at (202) 482-1442, and Kate Johnson (Thailand) at (202) 482-4929, AD/CVD Operations, Offices 2 and 9, Import Administration, International Trade Administration, U.S. Department of Commerce, 14th Street and Constitution Avenue, N.W., Washington, D.C. 20230.

SUPPLEMENTARY INFORMATION:

Background

On April 7, 2008, the Department of Commerce (the Department) published notices of initiation of the administrative reviews of the antidumping duty orders on certain frozen warmwater shrimp from Brazil, Ecuador, India, Thailand, the People's Republic of China (PRC) and the Socialist Republic of Vietnam (Vietnam), covering the period February 1, 2007, through January 31, 2008. See Certain Frozen Warmwater Shrimp from Brazil, Ecuador, India, and Thailand: Notice of Initiation of Administrative Reviews, 73 FR 18754 (April 7, 2008); and Notice of Initiation of Administrative Reviews of the Antidumping Duty Orders on Frozen Warmwater Shrimp from the Socialist Republic of Vietnam and the People's Republic of China, 73 FR 18739 (April 7, 2008).

During the period May through August 2008, the Department selected mandatory respondents in each of the above-mentioned administrative reviews.¹ See the May 27, 2008, Memorandum from David Goldberger to James Maeder entitled “2007-2008 Antidumping Duty Administrative Review of Certain Frozen Warmwater Shrimp from Ecuador: Selection of Respondents for Individual Review”; the May 27, 2008, Memorandum from Elizabeth Eastwood to James Maeder entitled “2007-2008 Antidumping Duty Administrative Review of Certain Frozen Warmwater Shrimp from India: Selection of Respondents for Individual Review”; the May 27, 2008, Memorandum from Irina Itkin to James Maeder entitled “Antidumping Duty Administrative Review of Certain Frozen Warmwater Shrimp from Thailand: Selection of Respondents for Individual Review;” and the June 16, 2008, Memorandum to James C. Doyle from Susan Pulongbarit entitled “2007-2008 Antidumping Duty Administrative Review of Certain Frozen Warmwater Shrimp from the People's Republic of China - Selection of Respondents for Individual Review.” On August 25, 2008, we selected an additional respondent in the administrative review of frozen warmwater shrimp from the PRC. See Memorandum to James C. Doyle from Erin Begnal entitled “2007-2008 Antidumping Duty Administrative Review: Frozen Warmwater Shrimp from the People's Republic of China Selection of Additional Mandatory Respondent.”

¹ The Department rescinded the administrative review of frozen warmwater shrimp from Brazil on June 16, 2008. See Certain Frozen Warmwater Shrip from Brazil: Notice of Rescission of Antidumping Duty Administrative Review, 73 FR 33976 (June 16, 2008).

Extension of Time Limit of Preliminary Results

Section 751(a)(3)(A) of the Tariff Act of 1930, as amended (the Act), requires the Department to make a preliminary determination in an administrative review within 245 days after the last day of the anniversary month of an order or finding for which a review is requested. Consistent with section 751(a)(3)(A) of the Act, the Department may extend the 245-day period to 365 days if it is not practicable to complete the review within a 245-day period. The deadline for the preliminary results of these reviews is currently October 31, 2008.

The Department determines that completion of the preliminary results of these administrative reviews within the statutory time period is not practicable. We are unable to analyze cost allegations as well as third-country market issues in the market-economy reviews, or issue supplemental questionnaires and conduct verification in the market and non-market economy reviews within the current timeframe. The Department thus requires additional time to conduct its analysis for each company in each of these reviews. Therefore, in accordance with section 751(a)(3)(A) the Act, we are extending the time period for issuing the preliminary results of these reviews until March 2, 2009.² The final results continue to be due 120 days after the publication of the preliminary results. This notice is published pursuant to section 751(a)(3)(A) of the Act and 19 CFR 351.213(h)(2).

² The Department also extended the administrative review of frozen warmwater shrimp from Vietnam until March 2, 2009. See Third Antidumping Duty Administrative Review of Certain Frozen Warmwater Shrimp from the Socialist Republic of Vietnam: Extension of Time Limit for the Preliminary Results, 73 FR 54139 (September 18, 2008).

Dated: October 2, 2008.
Stephen J. Claeys,
Deputy Assistant Secretary for Import Administration.

[FR Doc. E8-23885 Filed 10-7-08; 8:45 am]

BILLING CODE 3510-DS-S